DEPARTMENT OF HEALTH AND HUMAN SERVICES

Centers for Disease Control and Prevention

Advisory Committee for Energy-Related Epidemiologic Research: Conference Call Meeting

In accordance with section 10(a)(2) of the Federal Advisory Committee Act (Pub. L. 92-463), the Centers for Disease Control and Prevention (CDC) announces the following conference call meeting.

Name: Advisory Committee for Energy-Related Epidemiologic Research (ACERER).

Time and Date: 1 p.m.-3 p.m., August 4, 2000.

Place: The conference call will originate at the National Center for Environmental Health (NCEH), CDC, in Atlanta, Georgia. Please see Supplementary Information for details on accessing the conference call.

Status: Open to the public, limited only by the availability of telephone ports.

Purpose: This committee is charged with providing advice and recommendations to the Secretary, HHS; and to the Director, CDC, and Administrator, Agency for Toxic Substances and Disease Registry (ATSDR), on establishment of a research agenda and the conduct of a research program pertaining to energy-related epidemiologic studies.

Matters to be Discussed: The conference call agenda is to reach consensus on the review and report submitted to the ACERER by its Subcommittee for Management Review of the Chernobyl Studies.

Agenda items are subject to change as priorities dictate.

SUPPLEMENTARY INFORMATION: This conference call is scheduled to begin at 1 p.m., Eastern Time. To participate in the conference call, please dial 1-877-475-9228 and enter conference code 195001. You will then be automatically connected to the call.

FOR FURTHER INFORMATION CONTACT: Michael J. Sage, Executive Secretary, ACERER, and Associate Director for Planning, Evaluation, and Legislation, NCEH, CDC, 4770 Buford Highway, NE, (F-29), Atlanta, Georgia 30341-3724, telephone 770/488-7020, fax 770/488-7024.

The Director, Management Analysis and Services Office, has been delegated the authority to sign Federal Register notices pertaining to announcements of meetings and other committee management activities for both CDC and ATSDR.

Dated: July 17, 2000.
Carolyn J. Russell,
Director, Management Analysis and Services Office, Centers for Disease Control and Prevention.

[FR Doc. 00-18600 Filed 7-20-00; 8:45 am]

BILLING CODE 4163-18-P